DEPARTMENT OF LABOR

Employment and Training Administration

[TA-W-39, 011; et al.]

Texas Boot, Inc.; Amended Certification Regarding Eligibility To Apply for Worker Adjustment Assistance

In accordance with section 223 of the Trade Act of 1974 (19 U.S.C. 2273) the Department of Labor issued a Notice of Certification Regarding Eligibility to Apply for Worker Adjustment Assistance on June 19, 2001, applicable to workers of Texas Boot, Inc., Hartsville, Tennessee and Nashville, Tennessee. The notice was published in the Federal Register on July 5, 2001 (66 FR 35463).

At the request of the company, the Department reviewed the certification for workers of the subject firm. Information shows that worker separations occurred at the Waynesboro Manufacturing Plant, Waynesboro, Tennessee and the Distribution Center, Lebanon, Tennessee locations of the subject firm. Workers at the Waynesboro, Tennessee location are engaged in the production of western boots. The Lebanon, Tennessee location is a raw material warehouse and distribution center for the Waynesboro, Tennessee location.

Based on these findings, the Department is amending the certification to include workers of the Waynesboro Manufacturing Plant, Waynesboro, Tennessee and the Distribution Center, Lebanon, Tennessee.

The intent of the Department's certification is to include all workers of Texas Boot, Inc., who were adversely affected by increased imports of western boots.

The amended notice applicable to TA-W-39,011 is hereby issued as follows:

All workers of Texas Boot, Inc., Hartsville, Tennessee (TA-W-39,011), Corporate Headquarters, Nashville, Tennessee (TA-W-39,011A), Waynesboro Manufacturing Plant, Waynesboro, Tennessee (TA-W-39,011B) and Distribution Center, Lebanon, Tennessee TA-W-39,011C) who became totally or partially separated from employment on or after June 16, 2001 through June 19, 2003 are eligible to apply for adjustment assistance under section 223 of the Trade Act of 1974.

Signed at Washington, DC this 11th day of July, 2001.
Linda G. Poole,
Certifying Officer, Division of Trade Adjustment Assistance.

[FR Doc. 01-18621 Filed 7-25-01; 8:45 am]

BILLING CODE 4510-30-M